DEPARTMENT OF COMMERCE

International Trade Administration

[A-570-848]

Freshwater Crawfish Tail Meat From the People's Republic of China: Initiation of New Shipper Antidumping Review

AGENCY: Import Administration, International Trade Administration, Department of Commerce.

SUMMARY: The Department of Commerce (the Department) has received a timely request from Weishan Zhenyu Foodstuff Co., Ltd. (Zhenyu) to conduct a new shipper review of the antidumping duty order on freshwater crawfish tail meat from the People's Republic of China (PRC). In accordance with section 751(a)(2)(B) of the Tariff Act of 1930, as amended, and 19 CFR section 351.214(d) of the Department's regulations, we are initiating this new shipper review.

EFFECTIVE DATE: April 30, 2002.

FOR FURTHER INFORMATION CONTACT: Thomas Gilgunn or Holly Hawkins, AD/CVD Enforcement, Import Administration, International Trade Administration, U.S. Department of Commerce, 14th Street and Constitution Avenue, N.W., Washington, D.C. 20230; telephone: (202) 482-4236 or (202)482-0414, respectively.

SUPPLEMENTARY INFORMATION:

The Applicable Statute and Regulations

Unless otherwise indicated, all citations to the statute are references to the Tariff Act of 1930, as amended (the Act). In addition, unless otherwise indicated, all citations to the Department's regulations are to the current regulations, codified at 19 CFR Part 351 (2002).

Background

On March 29, 2002, the Department received a timely request from Zhenyu, in accordance with section 751(a)(2)(B) of the Act and 19 CFR 351.214(c), for a new shipper review of this antidumping duty order on freshwater crawfish tail meat from the People's Republic of China (“PRC”), which has a September anniversary date.

As required by 19 CFR 351.214(b)(2)(i), (ii), and (iii)(A), Zhenyu, an exporter and producer of crawfish tail meat, has certified that it did not export freshwater crawfish tail meat to the United States during the period of investigation (“POI”), and that it has never been affiliated with any exporter or producer which exported freshwater crawfish tail meat to the United States during the POI. Zhenyu has further certified that its export activities are not controlled by the central government of the PRC, pursuant to the requirements of 19 CFR 351.214(b)(2)(iii)(B). Pursuant to the Department's regulations at 19 CFR 351.214(b)(2)(iv)(A), Zhenyu submitted documentation establishing the date on which it first shipped the subject merchandise to the United States, the date of entry of that first shipment, the volume of that shipment and the date of the first sale to an unaffiliated customer in the United States. After reviewing submissions with respect to the new shipper review request filed on behalf of Zhenyu, the Department has decided that it will initiate this request in accordance with section 351.214(b) of the Department's regulations. See Memo from Barbara E. Tillman to the File, dated April XX, 2002, discussing Zhenyu's request for new shipper review.

Initiation of Review

In accordance with section 751(a)(2)(B)(ii) of the Act and 19 CFR 351.214(d)(1), we are initiating a new shipper review of the antidumping duty order on freshwater crawfish tail meat from the PRC.

In accordance with 19 CFR 351.214(g)(1)(i)(B) of the Department's regulations, the period of review (POR) for a new shipper review, initiated in the month immediately following the semiannual anniversary month, will be the six-month period immediately preceding the semiannual anniversary month. Therefore, the POR for this new shipper review is:

Antidumping duty proceeding | Period to be reviewed
Fresh Water Crawfish Tail Meat from the PRC:
Weishan Zhenyu Foodstuff (Zhenyu) Co., Ltd | 09/01/01-02/28/02

We will instruct the Customs Service to allow, at the option of the importer, the posting, until the completion of the review, of a bond or security in lieu of a cash deposit for each entry of the merchandise exported by Zhenyu. This action is in accordance with 19 CFR 351.214(e).

The interested parties that need access to proprietary information in this new shipper review should submit applications for disclosure under administrative protective order in accordance with 19 CFR 351.305 and 351.306.

This initiation and notice are in accordance with section 751(a) of the Act (19 U.S.C. 1675(a)) and 19 CFR 351.214(d).

April 23, 2002
Joseph A. Spetrini,
Deputy Assistant Secretaryfor Import Administration, Group III.

[FR Doc. 02-10610 Filed 4-29-02; 8:45 am]

BILLING CODE 3510-DS-S